DEPARTMENT OF DEFENSE

Office of the Secretary

Federal Advisory Committee; Department of Defense Military Family Readiness Council; Charter Amendment

AGENCY: Department of Defense (DoD).

ACTION: Charter amendment.

SUMMARY: Pursuant to the Federal Advisory Committee Act of 1972, (5 U.S.C., Appendix 2), the Government in the Sunshine Act of 1976 (5 U.S.C. 552b), and 41 CFR 102-3.85 the Department of Defense announces that it has amended the 2008-2010 charter for the Department of Defense Military Family Readiness Council (hereafter referred to as the “Council”).

FOR FURTHER INFORMATION CONTACT: Jim Freeman, Deputy Advisory Committee Management Officer for the Department of Defense, 703-601-6128.

SUPPLEMENTARY INFORMATION: The Council's charter was amended to reflect congressionally-mandated changes to the Council membership, and the Secretary of Defense's decision to appoint a senior flag officer's spouse as an advisor to the Council.

The Council's mission is to review and make recommendations to the Secretary of Defense on: (a) The policy and plans required under 10 U.S.C. 1781b; (b) monitor requirements for the support of military family readiness by the Department of Defense; and (c) evaluate and assess the effectiveness of the DoD military family readiness programs and activities.

The Council, no later than February 1st of each year, shall submit to the Secretary of Defense and the Defense congressional oversight committees a report on military family readiness. Each report, at a minimum, shall include the following:

a. An assessment of the adequacy and effectiveness of the military family readiness programs and activities of the Department of Defense during the preceding fiscal year in meeting the needs and requirements of military families.

b. Recommendations on actions to be taken to improve the capability of the military family readiness programs and activities of the Department of Defense to meet the needs and requirements of military families, including actions relating to the allocation of funding and other resources to and among such programs and activities.

The Council, pursuant to 10 U.S.C. 1781a(b), as amended by section 562 of Public Law 111-84, shall be comprised of no more than 14 members, appointed as specified below:

a. The Under Secretary of Defense for Personnel and Readiness, who shall serve as chair of the Council.

b. One representative of each of the Army, Navy, Marine Corps, and Air Force, who shall be appointed by the Secretary of Defense.

c. The senior enlisted advisors of the Army, Navy, Marine Corps, and Air Force, or the spouse of a senior enlisted advisor in lieu of that Military Services' senior listed advisor.

d. One representative from the Army National Guard or Air National Guard, who shall be appointed by the Secretary of Defense.

e. One representative from the Army Reserve, Navy Reserve, Marine Corps Reserve or Air Force Reserve, who shall be appointed by the Secretary of Defense.

f. Three individuals appointed by the Secretary of Defense from among representatives of military family organizations, including military family organizations that represent the Regular and Reserve Components.

With regard to membership requirements of subparagraph “b” above, the Secretary of Defense has appointed the Vice Chief of Staff, U.S. Army; the Vice Chief of Naval Operations, U.S. Navy; the Vice Chief of Staff, U.S. Air Force; and the Assistant Commandant of the U.S. Marine Corps. With regard to membership requirements of subparagraph “c” above, the Secretary of Defense has appointed the senior enlisted members of the Army, Navy, Air Force and Marine Corps. The appointments of these members pursuant to subparagraphs “b” and “c”, unless otherwise amended by the Secretary of Defense, shall remain in effect for the life of the Council, and these appointments will be based upon the specified DoD ex-officio positions. Thus, Council membership of the particular individual serving as the member in a specified position shall be terminated at the conclusion of the member's qualifying status in that position. The successor in office shall assume the position as a Council member.

If the Secretary of Defense amends his standing appointment pursuant to subparagraph “c” above for the senior enlisted members of the Military Services to serve based upon the specified DoD ex-officio positions, and the Secretary appoints a spouse of a senior enlisted member in lieu of the senior enlisted member from a particular Military Service, the spouse would be appointed as a special government employee, unless the spouse was a regular government employee in his or her own right. The appointment of special government employees shall not be for more than one year, but may be renewed. However, if a spouse of a senior listed member is appointed pursuant to subparagraph “c,” such membership shall terminate at the conclusion of the senior enlisted member's tour of duty during which the spouse was appointed to the Council.

Pursuant to 10 U.S.C. 1781a, as amended by section 562b of Public Law 111-84, individuals selected and appointed to positions covered by the membership requirements of subparagraphs “d” through “f” above shall serve three year terms on the Council.

Representation on the Council for subparagraph “d” above alternate every three years between the Army National Guard and the Air National Guard. Representation on the Council for subparagraph “e” above shall rotate among the Reserve Components listed in subparagraph “d” above and pursuant to a set rotational scheme approved by the Secretary of Defense, in consultation with the Under Secretary of Defense for Personnel and Readiness. Council membership pursuant to subparagraphs “d” and “f” above shall terminate at the conclusion of the member's qualifying status. The successor in office shall assume the position as a Council member for the remainder of the three-year term.

Members of the National Guard and Reserve Components, who are assigned to title 10, United States Code positions, when appointed to the Council, shall serve as regular government employees.

Council members appointed by the Secretary of Defense, who are not full-time or permanent part-time employees of the Federal government, shall be appointed as experts and consultants under the authority of 5 U.S.C. 3109, and serve as special government employees, whose appointments must be renewed on an annual basis.

The Secretary of Defense, in consultation with the Chairman of the Joint Chief of Staff and pursuant to 41 CFR 102-3.130(g), may appoint the spouse of a senior U.S. military flag officer (military pay grade O-9 or O-10) to serve as an advisor to the Council. This senior spouse advisor shall be appointed as an expert and consultant under the authority of 5 U.S.C. 3109, and shall serve as a special government employee, unless he or she is a regular government employee in his or her own right. As an expert and consultant under section 3109, this senior spouse advisor shall have no voting rights on the Council or its subcommittees; nor shall this senior spouse advisor participate in the deliberations of the Council or its subcommittees.

With the exception of travel and per diem for official travel, Council members appointed as special government employees shall serve without compensation.

Pursuant to 41 CFR 102-3.105(j) and 102-3.140, the public or interested organizations are reminded that they may submit written statements to the committee membership about the committee's mission and functions. Written statements may be submitted at any time or in response to the stated agenda of planned meeting of the Department of Defense Military Family Readiness Council.

All written statements shall be submitted to the Designated Federal Officer for the Department of Defense Military Family Readiness Council, and this individual will ensure that the written statements are provided to the membership for their consideration. Contact information for the Department of Defense Military Family Readiness Council's Designated Federal Officer, may be obtained from the GSA's FACA Database— https://www.fido.gov/facadatabase/public.asp.

The Designated Federal Officer, pursuant to 41 CFR 102-3.150, will announce planned meetings of the Department of Defense Military Family Readiness Council. The Designated Federal Officer, at that time, may provide additional guidance on the submission of written statements that are in response to the stated agenda for the planned meeting in question.

Dated: April 23, 2010.
Mitchell S. Bryman,
Alternate OSD Federal Register Liaison Officer, Department of Defense.

[FR Doc. 2010-9897 Filed 4-28-10; 8:45 am]

BILLING CODE 5001-06-P